DEPARTMENT OF THE INTERIOR

Bureau of Land Management

[AZ-422-1220-NX; 8364]

Limitation of Activities to Daylight Hours on Selected Public Lands Within the San Pedro Riparian National Conservation Area (SPRNCA), and Other Areas, Cochise County, AZ, To Provide for Public Safety

AGENCY: Bureau of Land Management, Interior.

ACTION: Notice.

SUMMARY: All public use, visitation and activity on affected lands in part of the San Pedro Riparian National Conservation Area (SPRNCA), and other land managed by the Bureau of Land Management in the area, are limited to daylight hours. Activity during the hours of darkness, which is described as official sunset to official sunrise, is prohibited year round. Other existing limitations established in the Safford District Resource Management Plan and applicable regulations remain unchanged except as modified by this notice. This notice is issued under the authority of 43 CFR 8364.1. This restriction is necessary for public health and safety, and to facilitate law enforcement efforts.

DATES: This notice is effective May 6, 2005, until rescinded or modified by the authorized officer.

ADDRESSES: You may direct inquiries or suggestions to the Tucson Field Office, 12661 East Broadway Boulevard, Tucson, Arizona 85748-7208; or the San Pedro River Riparian National Conservation Area, 1763 Paseo San Luis, Sierra Vista, Arizona 85635.

FOR FURTHER INFORMATION CONTACT: Steven Cohn, Acting Field Manager, Bureau of Land Management, Tucson Field Office, 12661 East Broadway Boulevard, Tucson, Arizona 85748-7208, telephone (520) 258-7200; or Bill Childress, Manager, San Pedro River Riparian National Conservation Area, 1763 Paseo San Luis, Sierra Vista, Arizona 85635, telephone (520) 439-6400.

SUPPLEMENTARY INFORMATION: Current use designations and regulations allow public use at all times in the SPRNCA. Part of the SPRNCA, and other lands, are affected by illegal immigration from Mexico, including smuggling of undocumented aliens and drug-smuggling that present serious safety concerns for visitors. Because of these illegal activities, intensive border-related law enforcement operations occur in the area. Public use in the affected area is also vulnerable to incidental criminal activity, and can conflict with law enforcement operations and management actions necessary to protect public safety.

The affected Federal lands include approximately 2,740 acres generally located south of State Highway 92, and north of the International United States-Mexico Boundary, including all or portions of Sections 3, 4, 8, 9, 17, 18, 19, and 20, Township 24 South, Range 22 East, Gila and Salt River Base Meridian, Cochise County, Arizona.

The affected area described here will be subject to the following restriction: Unless otherwise authorized, no person shall use, remain on or occupy any land in the affected area during the period of time from 30 minutes after official sunset to 30 minutes before official sunrise. Persons who are exempt from this restriction include:

(1) Any Federal, state, or local officers engaged in official fire, emergency or law enforcement activities;

(2) BLM employees engaged in official duties;

(3) Persons specifically authorized by BLM or by law to use, remain on, or occupy lands in the area affected by this notice. This includes persons with BLM permits or leases or other written authorizations, or occupying valid mining claims under the Mining Law.

Lawful uses and activities during daylight hours are not affected by this notice. The area affected by this notice will be posted with appropriate regulatory signs. Additional information is available in the Tucson Field Office, and at the SPRNCA headquarters at the addresses shown above.

Closure

1.0 Closure of Certain Public Lands to Overnight Activities

Unless otherwise authorized, no person shall use, remain on or occupy any land in the San Pedro River Riparian National Conservation Area during the period of time from 30 minutes after official sunset to 30 minutes before official sunrise.

2.0 Exceptions

This closure does not apply to:

a. Any Federal, state, or local officers engaged in official fire, emergency, or law enforcement activities;

b. BLM employees engaged in official duties;

c. Persons specifically authorized by BLM or by law to use, remain on, or occupy lands in the area affected by this notice; or

d. Lawful uses and activities during daylight hours, beginning 30 minutes before official sunrise and ending 30 minutes after official sunset.

3.0 Authority

The authority for this closure is found under section 303(a) of the Federal Land Policy and Management Act of 1976 (43 U.S.C. 1733 (a) and 43 CFR 9268.3(d)(1)(i) and 43 CFR 8364.1(a).

4.0 Penalties

1. On all public lands, under section 303(a) of the Federal Land Policy and Management Act of 1976, 43 U.S.C. 1733(a), 43 CFR 8360.0-7 and 43 CFR 9212.4, any person who violates any of these closures or restrictions on public lands within the boundaries established in this notice may be tried before a United States Magistrate and fined no more than $1,000 or imprisoned for no more than 12 months, or both. Such violations may also be subject to the enhanced fines provided for by 18 U.S.C. 3571.

2. On public lands within grazing districts (43 U.S.C. 315) and grazing-leased lands (43 U.S.C. 315m), under the Taylor Grazing Act, 43 U.S.C. 315(a), any person who violates these restrictions on public lands within the boundaries established in the rules may be tried before a United States Magistrate and fined no more than $500.00. Such violations may also be subject to the enhanced fines provided for by 18 U.S.C. 3571.

3. On public lands fitting the criteria in the Sikes Act, 16 U.S.C. 670j(a)(2), any person who violates any of these restrictions on public lands within the boundaries established in the rules may be tried before a United States Magistrate and fined no more than $500.00 or imprisoned for no more than six months, or both. Such violations may also be subject to the enhanced fines provided for by 18 U.S.C. 3571.

4. On public lands within Wild and Scenic River corridors (16 U.S.C. 1281(c) and 16 U.S.C. 3), any person who violates any of these restrictions on public lands within the boundaries established in the rules may be tried before a United States Magistrate and fined no more than $500.00 or imprisoned for no more than six months, or both. Such violations may also be subject to the enhanced fines provided for by 18 U.S.C. 3571.

5. On public lands within National Monuments and within the criteria found in 16 U.S.C. 433 and respective enabling legislation, any person who violates applicable restrictions within the boundaries established in the rules may be tried before a United States Magistrate and fined no more than $500.00 or imprisoned for no more than ninety days, or both. Such violations may also be subject to the enhanced fines provided for by 18 U.S.C. 3571.

Dated: March 11, 2005.
Steven Cohn,
Acting Field Manager.

[FR Doc. 05-9090 Filed 5-5-05; 8:45 am]

BILLING CODE 4310-32-P